DEPARTMENT OF AGRICULTURE

Forest Service

Bridger-Teton National Forest; Wyoming; Revision of the Land Management Plan for the Bridger-Teton National Forest

AGENCY: Forest Service, Agriculture (USDA).

ACTION: Notice of intent to initiate the assessment phase of the Land Management Plan revision for the Bridger-Teton National Forest.

SUMMARY: The Forest Service, U.S. Department of Agriculture, is initiating the assessment phase of the Land Management Plan revision process for the Bridger-Teton National Forest, located in Wyoming. The assessment supports the subsequent planning phase, which will result in a revised land management plan to guide all resource management activities on the Bridger-Teton National Forest. The assessment will identify and consider relevant and readily accessible material about ecological, social, and economic conditions and trends in the planning area and will identify best available scientific information including and Native or Indigenous knowledge. Findings will then help describe the need to change the plan and inform revision of the plan.

DATES: In late 2022, the Bridger-Teton National Forest Supervisor and staff initiated engagement with Tribes, and letters inviting consultation were mailed to Tribes in November 2023. Additional engagements with Tribal, county, State, and Federal entities, as well as public engagement opportunities occurred in 2023 and early 2024. Additional engagement with Tribes, cooperating agencies, and the public are planned for 2024 through the assessment phase. Future engagements will be planned for the subsequent plan revision phases. Interested parties may learn more about this and future planning phases, as well as information on opportunities to engage by visiting the Bridger-Teton land management planning website, located at https://www.fs.usda.gov/detail/btnf/landmanagement/planning/?cid=FSEPRD1093592.

A draft assessment for public review and comment is expected in summer 2024. After review and incorporation of public comments and additional information from Tribal consultation on the draft assessment, a final assessment and need to change the plan will be produced and used in subsequent phases of the plan revision.

ADDRESSES: For questions about Land Management Plan revision or comments on initiating the assessment phase of plan revision, please address mail to: Bridger-Teton National Forest, Attn: Forest Plan Revision, P.O. Box 1888, Jackson, WY 83001 or hand-deliver to the Supervisor's Office, 340 N Cache Street, Jackson, WY. Questions may also be sent electronically to comments-intermtn-bridger-teton@usda.gov. All correspondence, including names and addresses, will be part of the public record.

FOR FURTHER INFORMATION CONTACT: Dominique Brough, Forest Plan Revision Team Leader, by phone at (307) 739-5508 or by email at dominique.brough@usda.gov; or Mary Cernicek, Strategic Communications and Planning Public Affairs Officer, by phone at (307) 739-5564 or by email at mary.cernicek@usda.gov. Individuals who use telecommunications devices for the deaf (TDD) may call the Federal Relay Service (FRS) at 1-800-877-8339, 24 hours a day, every day of the year, including holidays.

SUPPLEMENTARY INFORMATION: The 2012 Planning Rule (36 CFR part 219), which implements the National Forest Management Act (NFMA) of 1976, provides that the Forest Service develop, maintain, and revise Land Management Plans for all National Forests and Grasslands. Land Management Plans provide the programmatic framework for management of forest resources and are amendable as conditions change over time. The current Bridger-Teton Land Management Plan was adopted in 1990.

The 2012 Planning Rule requires the assessment to include information regarding the status and trends of ecological, social, and economic conditions within the planning area and across the broader landscape. In particular, the agency must identify and evaluate information relevant to the plan area for the following: (1) Terrestrial ecosystems, aquatic ecosystems, and watersheds; (2) Air, soil, and water resources and quality; (3) System drivers, including dominant ecological processes, disturbance regimes, and stressors, such as natural succession, wildland fire, invasive species, and climate change, and the ability of terrestrial and aquatic ecosystems in the plan area to adapt to change; (4) Baseline assessment of carbon stocks; (5) Threatened, endangered, proposed, and candidate species, and potential species of conservation concern present in the plan area; (6) Social, cultural, and economic conditions; (7) Benefits people obtain from the national forest system planning area (ecosystem services); (8) Multiple uses and their contributions to local, regional, and national economies; (9) Recreation settings, opportunities and access, and scenic character; (10) Renewable and nonrenewable energy and mineral resources; (11) Infrastructure, such as recreational facilities and transportation and utility corridors; (12) Areas of tribal importance; (13) Cultural and historic resources and uses; (14) Land status and ownership and access patterns; and (15) Existing designated areas located in the plan area including wilderness and wild and scenic rivers and potential need and opportunity for additional designated areas. (36 CFR 219.6)

During this assessment phase, the Forest Service invites other government agencies, Tribes, non-governmental parties, and the public to share information about social, economic, and environmental conditions of the Bridger-Teton National Forest and the broader landscape. Existing information about conditions on the Bridger-Teton, including information gathered through public engagement, from cooperating agencies, and Tribal consultation, will be integrated into the assessment. The Forest Service will host public outreach forums to share progress and gather additional information.

Topics of interest will be discussed in the assessment and subsequent plan development phases include: areas of tribal importance; at-risk species; livestock grazing; management within inventoried roadless areas; watersheds and intact ecosystems; habitat connectivity; sustainable recreation; human population pressures; mature and old growth forest conditions; fire management within the wildland urban interface; and timber management and production trends. Wilderness evaluation and the identification of eligible wild and scenic rivers will be separate from the assessment but included in plan development.

Responsible Official: The responsible official for the revision of the Land Management Plan is Chad Hudson, Forest Supervisor, Bridger-Teton National Forest.

Dated: May 17, 2024.
Troy Heithecker,
Associate Deputy Chief, National Forest System.

[FR Doc. 2024-11664 Filed 5-28-24; 8:45 am]

BILLING CODE 3411-15-P